DEPARTMENT OF COMMERCE

Foreign-Trade Zones Board

[B-82-2014]

Foreign-Trade Zone 23—Buffalo, New York Application for Reorganization Under Alternative Site Framework

An application has been submitted to the Foreign-Trade Zones (FTZ) Board by the County of Erie, grantee of FTZ 23, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 13, 2014.

FTZ 23 was approved by the FTZ Board on March 31, 1976 (Board Order 110, 41 FR 14824, 4/7/1976) and expanded on November 2, 1979 (Board Order 148, 44 FR 65802, 11/15/1979); April 16, 1982 (Board Order 187, 47 FR 18014, 4/27/1982); February 7, 1985 (Board Order 291, 50 FR 6372, 2/15/1985); October 30, 1989 (Board Order 445, 54 FR 46431, 11/3/1989); and, June 25, 1993 (Board Order 645, 58 FR 36390, 7/7/1993).

The current zone includes the following sites: Site 1 (225 acres)—Gateway Trade Center, Buffalo Harbor near the Lackawanna Canal, Buffalo and Lackawanna, Erie County, City; Site 2 (298 acres)—Wehrle International Business Park, adjacent to the Greater Buffalo International Airport, Amherst, Erie County; Site 3 (13 acres)—Oak-Michigan Industrial Corridor, 225 Oak Street, Buffalo, Erie County; Site 5 (55 acres)—Grand Island Industrial Park, 353 Lang Boulevard, Grand Island, Erie County; Site 6 (11 acres)—Speed Transportation, 2299 Kenmore Avenue, Tonawanda, Erie County; Site 7 (189 acres)—Aero and Airport Business Parks, bounded by Holtz Road, Ellicott Creek, Rein Road, and the New York State Thruway, (immediately adjacent to the Buffalo Niagara International Airport), Cheektowaga, Erie County; Site 8 (194 acres)—Buffalo Niagara International Airport's Air Cargo Facility and Airport Commerce Center, bounded by Genesee Street, Wehrle Drive, and Cayuga Road, Cheektowaga, Erie County; Site 9 (5 acres)—Starline U.S.A. Inc., 3036 Alt Boulevard, Grand Island, Erie County; Site 10 (14.2 acres)—Buffalo Lakeside Commerce Park, 283 and 315 Ship Canal Parkway, Buffalo, Erie County; and, Site 11 (5.8 acres)—Sonwil Distribution Center, 4900 North America Drive, West Seneca, Erie County.

The grantee's proposed service area under the ASF would be Erie County, New York, as described in the application. If approved, the grantee would be able to serve sites throughout the service area based on companies' needs for FTZ designation. The proposed service area is within and adjacent to the Buffalo Customs and Border Protection port of entry.

The applicant is requesting authority to reorganize its existing zone to include Site 1 as a “magnet” site and Sites 5, 6, 9, 10 and 11 as “usage-driven” sites, as well as to remove Sites 2, 3, 7 and 8. The ASF allows for the possible exemption of one magnet site from the “sunset” time limits that generally apply to sites under the ASF, and the applicant proposes that Site 1 be so exempted. The application would have no impact on FTZ 23's previously authorized subzones.

In accordance with the FTZ Board's regulations, Elizabeth Whiteman of the FTZ Staff is designated examiner to evaluate and analyze the facts and information presented in the application and case record and to report findings and recommendations to the FTZ Board.

Public comment is invited from interested parties. Submissions shall be addressed to the FTZ Board's Executive Secretary at the address below. The closing period for their receipt is January 20, 2015. Rebuttal comments in response to material submitted during the foregoing period may be submitted during the subsequent 15-day period to February 2, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Elizabeth Whiteman at Elizabeth.Whiteman@trade.gov or (202) 482-0473.

Dated: November 13, 2014.
Andrew McGilvray,
Executive Secretary.

[FR Doc. 2014-27406 Filed 11-18-14; 8:45 am]

BILLING CODE 3510-DS-P